DEPARTMENT OF JUSTICE

Drug Enforcement Administration

Importer of Controlled Substances; Notice of Registration; Correction

The notice dated March 29, 2005, and published in the Federal Register on April 6, 2005 (70 FR 17471), contained the following errors: The listing of controlled substances Raw Opium (9600), and Concentrate of Poppy Straw (9670), were inadvertently added for Chattem Chemicals, Inc., 3801 St. Elmo Avenue, Building 18, Chattanooga, Tennessee 37409. The Notice of Registration should be corrected by deleting Raw Opium (9600) and Concentrate of Poppy Straw (9670). Additionally, in the last paragraph of the Notice of Registration the company name was listed incorrectly as Cambrex Charles City. The correct name is Chattem Chemicals, Inc.

Dated: April 13, 2005.
William J. Walker,
Deputy Assistant Administrator, Office of Diversion Control, Drug Enforcement Administration.

[FR Doc. 05-7820 Filed 4-19-05; 8:45 am]

BILLING CODE 4410-09-P